DEPARTMENT OF COMMERCE

National Oceanic and Atmospheric Administration

RIN 0648-XE891

Fishing Capacity Reduction Program for the Pacific Coast Groundfish Fishery

AGENCY: National Marine Fisheries Service (NMFS), National Oceanic and Atmospheric Administration (NOAA), Commerce.

ACTION: Notice of sub-loan repayment.

SUMMARY: NMFS issues this notice to inform interested parties that the California Pink Shrimp sub-loan in the Pacific Coast Groundfish Capacity Reduction (Buyback) Program has been repaid. Therefore, Buyback fee collections on California Pink Shrimp sub-loan will cease for all landings after August 31, 2016.

DATES: Comments must be submitted on or before 5 p.m. EST October 17, 2016.

ADDRESSES: Send comments about this notice to Paul Marx, Chief, Financial Services Division, NMFS, Attn: California Pink Shrimp Buyback, 1315 East-West Highway, Silver Spring, MD 20910 (see FOR FURTHER INFORMATION CONTACT).

FOR FURTHER INFORMATION CONTACT: Michael A. Sturtevant at (301) 427-8799 or Michael.A.Sturtevant@noaa.gov.

SUPPLEMENTARY INFORMATION: On November 16, 2004, NMFS published a proposed rule in the Federal Register (69 FR 67100) proposing to implement an industry fee system for repaying the California Pink Shrimp Buyback sub-loan. The final rule was published July 13, 2005 (70 FR 40225) and fee collection began on September 8, 2005. Interested persons should review these for further program details.

The California Pink Shrimp Buyback sub-loan in the amount of $674,202.18 will be repaid in full upon receipt of buyback fees on landings through August 31, 2016. NMFS has received $1,182,214.57 to repay the principal and interest on this sub-loan since fee collection began September 8, 2005. Based on Buyback fees received to date, landings after August 31, 2016, will not be subject to the Buyback fee. Therefore, Buyback fees will no longer be collected in the California Pink Shrimp fishery on future landings.

Buyback fees not yet forwarded to NMFS for California Pink Shrimp landings through August 31, 2016, should be forwarded to NMFS immediately. Any overpayment of Buyback fees submitted to NMFS will be refunded on a pro-rata basis to the fish buyers based upon best available fish ticket landings data. The fish buyers should return excess Buyback fees collected to the harvesters, including Buyback fees collected but not yet remitted to NMFS for landings after August 31, 2016. Any discrepancies in fees owed and fees paid must be resolved immediately. After the sub-loan is closed, no further adjustments to fees paid and fees received can be made.

Dated: September 26, 2016.
Brian T. Pawlak,
CFO/Director, Office of Management and Budget, National Marine Fisheries Service.

[FR Doc. 2016-23709 Filed 9-29-16; 8:45 am]

BILLING CODE 3510-22-P